DEPARTMENT OF TRANSPORTATION

Office of the Secretary

Aviation Proceedings, Agreements Filed the Week Ending August 31, 2007

The following Agreements were filed with the Department of Transportation under the sections 412 and 414 of the Federal Aviation Act, as amended (49 U.S.C. 1383 and 1384) and procedures governing proceedings to enforce these provisions. Answers may be filed within 21 days after the filing of the application.

Docket Number: OST-2007-29149.

Date Filed: August 31, 2007.

Parties: Members of the International Air Transport Association.

Subject: Resolution 015h. USA Add-ons between USA and UK, (Memo 0215).

Intended effective date: 1 October 2007.

Renee V. Wright,
Program Manager, Docket Operations, Federal Register Liaison.

[FR Doc. E7-18565 Filed 9-19-07; 8:45 am]

BILLING CODE 4910-9X-P